DEPARTMENT OF HEALTH AND HUMAN SERVICES

Administration on Aging

Agency Information Collection Activities; Submission for OMB Review; Comment Request; State Annual Long-Term Care Ombudsman Report and Instructions

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by May 10, 2006.

ADDRESSES: Submit written comments on the collection of information by fax 202.395.6974 or by mail to the Office of Information and Regulatory Affairs, OMB, New Executive Office Bldg., 725 17th St. NW., rm. 10235, Washington, DC 20503, Attn: Brenda Aguilar, Desk Officer for AoA.

FOR FURTHER INFORMATION CONTACT: Sue Wheaton, telephone: (202) 357-3587; e-mail: sue.wheaton@aoa.gov.

SUPPLEMENTARY INFORMATION: In compliance with 44 U.S.C. 3507, AoA has submitted the following proposed collection of information to OMB for review and clearance.

To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology. The reporting system, the National Ombudsman Reporting System (NORS), was developed in response to the needs and directives pertaining to the Long Term Care Ombudsman Program and approved by the Office of Management and Budget for use in FY 1995-96 and extended with slight modifications for use in FY 1997-2001 and again for FY 2002-2006.

This request is to institute the use of the revised information collection, State Annual Long-Term Care Ombudsman Report (and Instructions), from state agencies on aging and state long-term care ombudsman programs under Titles III and VII of the Older Americans Act. The data collected on complaints filed with ombudsman programs and narrative on long-term care issues provide information to Centers for Medicare and Medicaid Services and others on patterns of concerns and major long-term care issues affecting residents of long-term care facilities. Both the complaint and program data collected assist the states and local ombudsman programs in planning strategies and activities, providing training and technical assistance and developing performance measures.

A list of the proposed changes and the revised reporting form and instructions may be viewed in the ombudsman section of the AoA Web site, http://www.aoa.gov/prof/aoaprog/elder_rights/LTCombudsman/NORS/nors_form_instructions.asp. These documents represent the results of work with the states and local ombudsmen to revise and update the form and instructions for use beginning in FY 2007. AoA estimates the burden of this collection of information as follows: Approximately 10 minutes per case, per respondent, for a total annual hour burden of 10,258 hours, with 52 State Agencies on Aging responding annually.

Dated: April 5, 2006.
Josefina G. Carbonell,
Assistant Secretary for Aging.

[FR Doc. E6-5189 Filed 4-7-06; 8:45 am]

BILLING CODE 4154-01-P